NATIONAL FOUNDATION ON THE ARTS AND THE HUMANITIES

Institute of Museum and Library Services

Submission for OMB Review, Comment Request, Proposed Collection: Collection of Information To Assess the Current State of Library and Museum Infrastructure To Identify Infrastructure Needs

AGENCY: Institute of Museum and Library Services, National Foundation on the Arts and the Humanities.

ACTION: Submission for OMB review, comment request.

SUMMARY: The Institute of Museum and Library Services (IMLS) announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Collection of Information to Assess the Current State of Library and Museum Infrastructure to Identify Infrastructure Needs. A copy of the proposed information collection request can be obtained by contacting the individual listed below in the FOR FURTHER INFORMATION CONTACT section of this Notice.

DATES: Written comments must be submitted to the office listed in the ADDRESSES section below on or before April 19, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Matthew Birnbaum, Ph.D., Director of Research and Evaluation, Institute of Museum and Library Services, 955 L'Enfant Plaza North SW, Suite 4000, Washington, DC 20024-2135. Dr. Birnbaum can be reached by telephone: 202-653-4760, or by email at mbirnbaum@imls.gov. Persons who are deaf or hard of hearing (TTY users) may contact IMLS at 202-207-7858 via 711 for TTY-Based Telecommunications Relay Service.

SUPPLEMENTARY INFORMATION: IMLS is the primary source of federal support for the nation's libraries and museums. We advance, support, and empower America's museums, libraries, and related organizations through grant making, research, and policy development. To learn more, visit www.imls.gov.

Current Actions: This Notice proposes the clearance of the Collection of Information to Assess the Current State of Library and Museum Infrastructure to Identify Infrastructure Needs. This study will be carried out according to the requirements set forth by The House Appropriations Labor, Health and Human Services Subcommittee's 2023 Appropriations Bill for the Department of Labor (Report 117-403), and the Senate Appropriations Subcommittee's Departments of Labor, Health and Human Services, and Education, and Related Agencies Appropriations Act (2023) (S.4659). The subcommittees recommended that IMLS conduct an investigation to examine the physical condition of museum and library facilities, prioritizing those serving rural and underserved communities and facilities affected by natural disasters and extreme weather events.

In compliance with this legislation, IMLS intends to assess museum and library infrastructures to ascertain the status of their physical condition. This study is a formative needs assessment, and as such, data collected will be used to illuminate priorities that the agency should consider in informing future data collections and potential future facilities investments throughout the United States.

The 60-day Notice was published in the Federal Register on December 26, 2023 (88 FR 88980) (Document Number: 2023-28405). The agency has taken into consideration one comment that was received under this Notice.

Agency: Institute of Museum and Library Services.

Title: Collection of Information to Assess the Current State of Library and Museum Infrastructure to Identify Infrastructure Needs.

OMB Control Number: 3137-NEW.

Agency Number: 3137.

Affected Public: Museum and library management; museum and library associations, state, municipal, and city level stakeholders.

Total Number of Respondents: 36.

Frequency of Response: Once per response.

Average Hours per Response: 1.25.

Total Estimated Annual Burden Hours: 45.

Total Annual Cost Burden: $1,814.

Total Annual Federal Costs: $15,684.

Dated: March 14, 2024.
Suzanne Mbollo,
Grants Management Specialist, Institute of Museum and Library Services.

[FR Doc. 2024-05843 Filed 3-19-24; 8:45 am]

BILLING CODE 7036-01-P